DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. chapter 35).

Agency: United States Patent and Trademark Office (USPTO).

Title: Patent Processing (Updating).

Form Number(s): PTO/SB/08a/08b/21/22/23/24/24A/25/26/27/30/31/32/35/36/37/42/43/61/62/63/64/64a/67/68/91/92/96/97, PTO-2053-A/B, PTO-2054-A/B, PTO-2055-A/B, PTOL/413A, eIDS, EFS form.

Agency Approval Number: 0651-0031.

Type of Request: Extension of a currently approved collection.

Burden: 2,724,329 hours annually.

Number of Respondents: 2,215,789 responses per year.

Avg. Hours Per Response: The USPTO estimates that it will take anywhere from one hour to four hours, depending on the amount of information that the applicant needs to submit to the USPTO, to complete the requirements associated with this information collection. This includes time to gather the necessary information, create the documents, and submit the completed request.

Needs and Uses: During the pendency of a patent application or the period of enforceability of a patent, situations arise that require collection of information for the USPTO to further process the patented file or the patent application. This information can be used by the USPTO to continue the processing of the patent or application or to ensure that applicants are complying with the patent regulations. The USPTO is submitting this collection in support of a proposed rulemaking, “Changes to Support Implementation of the USPTO's 21st Century Plan” (RIN 0651-AB64) that would allow the use of electronic signatures on documents, require photographs of any exhibit so that the exhibit can be included in the file, and also allow the USPTO to adjust the fees for many petitions in order to more accurately reflect the actual cost to the USPTO of processing these petitions, among other things.

Affected Public: Individuals or households; business or other for-profit; not-for-profit institutions; farms, the Federal Government, and State, local, or tribal governments.

Frequency: On occasion.

Respondent's Obligation: Required to obtain or retain benefits.

OMB Desk Officer: David Rostker, (202) 395-3897.

Copies of the above information collection proposal can be obtained by calling or writing Susan K. Brown, Records Officer, Office of the Chief Information Officer, Office of Data Architecture and Services, (703) 308-7400, U.S. Patent and Trademark Office, P.O. Box 1450, Alexandria, Virginia 22313, Attn: CPK 3 Suite 310, or by e-mail at susan.brown@uspto.gov.

Written comments and recommendations for the proposed information collection should be sent on or before October 9, 2003, to David Rostker, OMB Desk Officer, Room 10202, New Executive Office Building, Washington, DC 20503.

Dated: September 2, 2003.
Susan K. Brown,
Records Officer, USPTO, Office of Data Architecture and Services, Data Administration Division.

[FR Doc. 03-22882 Filed 9-8-03; 8:45 am]

BILLING CODE 3510-16-P